DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Public User ID Badging.

Form Number(s): PTO-2030, PTO-2224.

Agency Approval Number: 0651-0041.

Type of Request: Revision of a currently approved collection.

Burden: 1,260 hours annually.

Number of Respondents: 13,138 responses per year.

Avg. Hours Per Response: The USPTO estimates that it will take the public approximately 5 minutes (0.08 hours) to submit an application for an online access card (PTO-2030) and approximately 10 minutes (0.17 hours) to verify the information with the USPTO staff and be issued the card. The USPTO also estimates that it will take the public approximately 5 minutes (0.08 hours) to renew or replace an online access card, to submit an application for a security identification badge (PTO-2224), or to replace a security identification badge; and approximately 10 minutes (0.17 hours) to submit a user training application form. These estimates include the time to gather the necessary information, prepare the form, and submit the completed request.

Needs and Uses: The USPTO is required by 35 U.S.C. 41(i)(1) to maintain a Public Search Facility with patent and trademark collections available for searching and retrieval of information by the public. In order to manage the patent and trademark collections, the USPTO issues online access cards to customers who wish to use the search facilities and access their online systems. Under the authority provided in 41 CFR part 102-81, the USPTO is also upgrading the security procedures at its facilities and will issue a separate security identification badge with photograph for public search users. The public uses this collection to request an online access card, a security identification badge, or to register for training classes for the online search systems. The USPTO is adding three new forms to this information collection, one form for public users to apply for a security identification badge (PTO-2224) and two forms for public users to register for training classes.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0041 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before May 16, 2005 to David Rostker, OMB Desk Officer, Room 10202, New Executive Office Building, 725 17th Street, NW., Washington, DC 20503.

Dated: April 8, 2005.
Susan K. Brown,
Records Officer, USPTO, Office of the Chief Information Officer, Office of Data Architecture and Services, Data Administration Division.

[FR Doc. 05-7560 Filed 4-14-05; 8:45 am]

BILLING CODE 3510-16-P